DEPARTMENT OF STATE

[Public Notice: 7586]

U.S. Department of State Advisory Committee on Private International Law (ACPIL): Public Meeting on Electronic Commerce

The Department of State, Office of Legal Adviser, Office of Private International Law would like to give notice of a public meeting to discuss the future work of Working Group IV (international electronic commerce) of the United Nations Commission on International Trade Law (UNCITRAL). Working Group IV will next meet October 10-14, 2011, and will undertake work in the field of electronic transferable records. Electronic records that are transferable may be used to transfer rights by computer or otherwise electronically, provided that applicable rules so permit. The Working Group is expected to focus on such rules and, in so doing, may address related aspects of electronic commerce.

The report of the Forty-fourth session of UNCITRAL describes the future work of Group IV. That report, document A/66/17, may be accessed via the UNCITRAL Web site (http://www.uncitral.org). The proposed agenda for the October meeting is available at http://www.uncitral.org/uncitral/en/commission/working_groups/4Electronic_Commerce.html.

Time and Place: The public meeting will take place on Friday, September 30, 2011, from 10 a.m. to 12 p.m. EDT at the Office of the Assistant Legal Adviser for Private International Law, U.S. Department of State, Washington, DC. Participants attending in person should arrive by 9:45 a.m. at the C Street gate to Navy Hill, corner of C Street, NW., and 23rd Street, NW. If you are unable to attend the public meeting and would like to participate from a remote location, teleconferencing will be available.

Public Participation: This meeting is open to the public, subject to the capacity of the meeting room. Access to the meeting building is controlled. Persons wishing to attend in person or telephonically should contact both Trisha Smeltzer (SmeltzerTK@state.gov) and Niesha Toms (TomsNN@state.gov) of the Office of the Assistant Legal Adviser for Private International Law. If you would like to participate in person or telephonically, please provide your name, affiliation, e-mail address, and mailing address. If you would like to participate in person, please also provide your date of birth, citizenship, and driver's license or passport number for entry in the building. Members of the public who are not pre-cleared might encounter delays with security procedures. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. A member of the public needing reasonable accommodation should advise either of the aforementioned contacts not later than September 20, 2011.

Dated: September 8, 2011.
Michael S. Coffee,
Attorney-Adviser, Office of Private International Law.

[FR Doc. 2011-23667 Filed 9-13-11; 8:45 am]

BILLING CODE 4710-08-P